DEPARTMENT OF THE TREASURY

Office of Foreign Assets Control

Additional Designations, Foreign Narcotics Kingpin Designation Act

AGENCY: Office of Foreign Assets Control, Treasury.

ACTION: Notice.

SUMMARY: The Treasury Department's Office of Foreign Assets Control (“OFAC”) is publishing the name of 4 individuals whose property and interests in property have been blocked pursuant to the Foreign Narcotics Kingpin Designation Act (“Kingpin Act”) (21 U.S.C. 1901-1908, 8 U.S.C. 1182).

DATES: The designation by the Director of OFAC of the 4 individuals identified in this notice pursuant to section 805(b) of the Kingpin Act is effective on July 20, 2009.

FOR FURTHER INFORMATION CONTACT: Assistant Director, Compliance Outreach & Implementation, Office of Foreign Assets Control, Department of the Treasury, Washington, DC 20220, tel.: 202/622-2490.

SUPPLEMENTARY INFORMATION:

Electronic and Facsimile Availability

This document and additional information concerning OFAC are available on OFAC's Web site (http://www.treas.gov/ofac) or via facsimile through a 24-hour fax-on demand service, tel.: (202) 622-0077.

Background

The Kingpin Act became law on December 3, 1999. The Kingpin Act establishes a program targeting the activities of significant foreign narcotics traffickers and their organizations on a worldwide basis. It provides a statutory framework for the President to impose sanctions against significant foreign narcotics traffickers and their organizations on a worldwide basis, with the objective of denying their businesses and agents access to the U.S. financial system and to the benefits of trade and transactions involving U.S. companies and individuals.

The Kingpin Act blocks all property and interests in property, subject to U.S. jurisdiction, owned or controlled by significant foreign narcotics traffickers as identified by the President. In addition, the Secretary of the Treasury consults with the Attorney General, the Director of the Central Intelligence Agency, the Director of the Federal Bureau of Investigation, the Administrator of the Drug Enforcement Administration, the Secretary of Defense, the Secretary of State, and the Secretary of Homeland Security when designating and blocking the property and interests in property, subject to U.S. jurisdiction, of persons who are found to be: (1) Materially assisting in, or providing financial or technological support for or to, or providing goods or services in support of, the international narcotics trafficking activities of a person designated pursuant to the Kingpin Act; (2) owned, controlled, or directed by, or acting for or on behalf of, a person designated pursuant to the Kingpin Act; or (3) playing a significant role in international narcotics trafficking.

On July 20, 2009, OFAC designated 4 individuals whose property and interests in property are blocked pursuant to section 805(b) of the Foreign Narcotics Kingpin Designation Act.

The list of additional designees is as follows:

1. COSTILLA SANCHEZ, Jorge Eduardo (a.k.a. COSTILLA SANCHEZ, Jorge); Mexico; Andador 2 o 20, No. 13, Fraccionamiento Los Sauces, Matamoros, Tamaulipas, Mexico; Playa Mocamba y Playa Encantada No. 14, Colonia Playa Sol, Matamoros, Tamaulipas, Mexico; Calle Sierra Nevada No. 633, Fraccionamiento Fuentes, Seccion Lomas, Reynosa, Tamaulipas, Mexico; DOB 01 Aug 1971; Alt. DOB 06 Jan 1971; Alt. DOB 01 Jun 1971; Alt. DOB 06 Jun 1971; POB Mexico; Citizen Mexico; Nationality Mexico; Electoral Registry No. CSSNJR71010628H801 (Mexico); (INDIVIDUAL) [SDNTK].

2. CARDENAS GUILLEN, Ezequiel (a.k.a. CARDENAS GUILLEN, Antonio Ezequiel); Calle Maples Y Abeto, Fraccionamiento Las Arboleras, Matamoros, Tamaulipas, Mexico; Calle Cerro de Tepeyac No. 33, Colonia Lucio Blanco, Matamoros, Tamaulipas, Mexico; DOB 05 Mar 1962; POB Tamaulipas, Mexico; Citizen Mexico; Nationality Mexico; C.U.R.P. CAGE620305HTSRLZ08 (Mexico); (INDIVIDUAL) [SDNTK].

3. LAZCANO LAZCANO, Heriberto, Mariano Zavala 51, Seccion 16, Matamoros, Tamaulipas, Mexico; Ciudad Miguel Aleman, Tamaulipas, Mexico; DOB 25 Dec 1974; Alt. DOB 25 Jan 1974; Alt. DOB 01 Jan 1970; POB Hidalgo, Mexico; Alt. POB Pachuca, Hidalgo, Mexico; Citizen Mexico; Nationality Mexico; C.U.R.P. LALH741225HHGZZR03 (Mexico); R.F.C. LALH741225 (Mexico); (INDIVIDUAL) [SDNTK].

4. TREVINO MORALES, Miguel (a.k.a. TREVINO MORALES, Miguel Angel); Calle Veracruz 825, Nuevo Laredo, Tamaulipas, Mexico; Calle Mina No. 6111, Nuevo Laredo, Tamaulipas, Mexico; Calle Nayarit 3404, en la esquina de Nayarit y Ocampo, Nuevo Laredo, Tamaulipas, Mexico; Calle 15 de Septiembre y Leandro Valle, Nuevo Laredo, Tamaulipas, Mexico; Avenida Tecnologico 17, entre Calle Pedro Perezo Ibarra y Fraccionamiento Tecnologica, Nuevo Laredo, Tamaulipas, Mexico; Amapola 3003, Col. Primavera, Nuevo Laredo, Tamaulipas, Mexico; Rancho Soledad, Anahuac, Nuevo Leon, Mexico; Rancho Rancherias, Anahuac, Nuevo Leon, Mexico; Reynosa, Tamaulipas, Mexico; DOB 28 Jun 1973; Alt. DOB 18 Nov 1970; Alt. DOB 25 Jan 1973; Alt. DOB 15 Jul 1976; POB Nuevo Laredo, Tamaulipas, Mexico; Alt. POB Tamaulipas, Mexico; Citizen Mexico; Nationality Mexico; R.F.C. TRMM730628 (Mexico); (INDIVIDUAL) [SDNTK].

Dated: July 20, 2009.
Adam J. Szubin,
Director, Office of Foreign Assets Control.

[FR Doc. E9-17683 Filed 7-23-09; 8:45 am]

BILLING CODE 4811-45-P